SECURITIES AND EXCHANGE COMMISSION

[Release No. 34-49199; File No. 4-443]

Joint Industry Plan; Notice of Filing and Immediate Effectiveness of Amendment to the OLPP to Add Boston Stock Exchange, Inc., as a Plan Sponsor

February 5, 2004.

Pursuant to section 11A(a)(3) of the Securities Exchange Act of 1934 (“Act”) ¹ and Rule 11Aa3-2 thereunder,² notice is hereby given that on February 5, 2004, the Boston Stock Exchange, Inc. (“BSE” or “Exchange”) submitted to the Securities and Exchange Commission (“Commission” or “SEC”) an amendment to the Plan for the Purpose of Developing and Implementing Procedures Designed to Facilitate the Listing and Trading of Standardized Options Submitted Pursuant to section 11A(a)(3)(B) of the Securities Exchange Act of 1934 (“OLPP”).³ The amendment proposes to add the BSE as a Plan Sponsor ⁴ of the OLPP. The Commission is publishing this notice to solicit comments from interested persons on the proposed OLPP amendment.

¹ 15 U.S.C. 78k-1(a)(3).

² 17 CFR 240.11Aa3-2.

³ On July 6, 2001, the Commission approved the OLPP, which was proposed by the American Stock Exchange LLC (“Amex”), Chicago Board Options Exchange, Inc. (“CBOE”), International Securities Exchange LLC (“ISE”), Options Clearing Corporation (“OCC”), Philadelphia Stock Exchange, Inc. (“Phlx”), and Pacific Exchange, Inc. (“PCX”). See Securities Exchange Act Release No. 34-44521, 66 FR 36809 (July 13, 2001).

⁴ A national securities exchange may become a Plan Sponsor if it satisfies the requirements of Section 7 of the OLPP. The current Plan Sponsors are Amex, CBOE, ISE, OCC, Phlx, and PCX.

I. Description and Purpose of the Amendment

The proposed amendment to the OLPP would add the BSE as a Plan Sponsor to the OLPP. Section 7 of the OLPP provides that Eligible Exchanges ⁵ may be admitted as new Plan Sponsors by: (a) Executing a copy of the OLPP; (b) providing each then-current Plan Sponsor with a copy of such executed OLPP; and (c) effecting an amendment to the OLPP by submitting such executed OLPP to the Commission. To become a Plan Sponsor, an amendment to the OLPP may be effected by a new Eligible Exchange executing a copy of the OLPP, as then in effect, (with the only change being the addition of the new Plan Sponsor's name in section 9) and submitting such executed OLPP to the SEC. Such amendment will be effective when it has been approved by the SEC or otherwise becomes effective pursuant to section 11A of the Act and Rule 11Aa3-2. The BSE has submitted a signed copy of the OLPP to the Commission in accordance with the procedures set forth in the OLPP regarding new Plan Sponsors.

⁵ The OLPP defines an “Eligible Exchange” as a national securities exchange registered with the Commission pursuant to section 6(a) of the Act, 15 U.S.C. 78f(a), that has effective rules for the trading option contracts issued and cleared by the OCC approved in accordance with the provisions of the Act and the rules and regulations thereunder and is a party to the Plan for Reporting of Consolidated Options Last Sale Reports and Quotation Information. The Commission has granted BSE an exemption from these requirements for qualifying as an Eligible Exchange. See Letter from Robert L.D. Colby, Deputy Director, Division of Market Regulation, Commission, to George W. Mann, Jr., Executive Vice President and General Counsel, BSE, dated February 4, 2004.

II. Effectiveness of the Proposed OLPP Amendment

The foregoing proposed OLPP amendment has become effective pursuant to Rule 11Aa3-2(c)(3)(iii) ⁶ because it involves solely a technical or ministerial matter. At any time within sixty days of the filing of this amendment, the Commission may summarily abrogate the amendment and require that it be refiled pursuant to paragraphs (b)(1) and (c)(2) of Rule 11Aa3-2,⁷ if it appears to the Commission that such action is necessary or appropriate in the public interest, for the protection of investors or the maintenance of fair and orderly markets, to remove impediments to, and perfect the mechanisms of, a national market system or otherwise in furtherance of the purposes of the Act.

⁶ 17 CFR 240.11Aa3-2(c)(3)(iii).

⁷ 17 CFR 240.11Aa3-2(b)(1) and (c)(2).

III. Solicitation of Comments

Interested persons are invited to submit written data, views and arguments concerning the foregoing, including whether the proposed amendment is consistent with the Act. Persons making written submissions should file six copies thereof with the Secretary, Securities and Exchange Commission, 450 Fifth Street, NW., Washington, DC 20549-0609. Comments may also be submitted electronically at the following e-mail address: rule-comments@sec.gov. All comment letters should refer to File No. 4-443. This file number should be included on the subject line if e-mail is used. To help the Commission process and review your comments more efficiently, comments should be sent in hard copy or by e-mail but not by both methods. Copies of the submission, all subsequent amendments, all written statements with respect to the proposed amendment that are filed with the Commission, and all written communications relating to the proposed amendment between the Commission and any person, other than those that may be withheld from the public in accordance with the provisions of 5 U.S.C. 552, will be available for inspection and copying in the Commission's Public Reference Room. Copies of such filing will also be available for inspection and copying at the principal office of BSE. All submissions should refer to File No. 4-443 and should be submitted by March 15, 2004.

For the Commission, by the Division of Market Regulation, pursuant to delegated authority.⁸
⁸ 17 CFR 200.30-3(a)(29).
Margaret H. McFarland,
Deputy Secretary.

[FR Doc. 04-3030 Filed 2-11-04; 8:45 am]

BILLING CODE 8010-01-P